DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed collection financial data for the National Farmworker Jobs Program on a modified Standard Form 269 Financial Status Report (ETA 9092). A copy of the proposed information collection request (ICR) can be obtained by contacting the office listed below in the addresses section of this notice.

DATES: Written comments must be submitted to the office listed in the addressees section below on or before February 26, 2001.

ADDRESSES: Thomas Martin, Division of Financial Grants Management Policy and Review, Office of Grants and Contract Management, United States Department of Labor, Employment and Training Administration, 200 Constitution Ave. NW, Rm. N-4720, Washington, DC 20210, (202-693-2989—not a toll free number) and Internet address: TCMartin@DOLETA.GOV and/or FAX: (202-693-3362).

SUPPLEMENTARY INFORMATION:

I. Background

Pursuant to Public Law 105-220, dated August 7, 1998 and 20 CFR Parts 652, et al., Workforce Investment Act (WIA) Final Rules, date August 11, 2000, the Department of Labor's Employment and Training Administration has revised the financial reporting instructions for the National Farmworker Jobs Program. The WIA regulations at Part 669, Subpart A, establish that the general administrative requirements found in 20 CFR Part 667 apply to the NFJP program. The proposed reporting format and corresponding instructions have been developed in accordance with the Reporting Requirements contained in 20 CFR 667.300, including the provision for cumulative accrual reporting by fiscal year of appropriation. The data elements contained on the prototype format will be incorporated into software which will be provided electronically to the NFJP grantees to enable direct Internet reporting.

This proposed collection supercedes the Financial Status Report (FSR) for the National Farmworker Jobs Program previously announced in the Federal Register on October 3, 2000.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms technology, e.g., permitting electronic submissions of responses.

III. Current Actions

The proposed collection of information must be approved so that the Department can effectively manage and evaluate the WIA National Farmworker Jobs Program authorized under Title I section 167 of the Act in compliance with the requirements set forth in Public Law 105-220 and 20 CFR 652 et al., Workforce Investment Act; Final Rules, dated August 11, 2000.

Type of Review: New.

Agency: Employment and Training Administration.

Title: Workforce Investment Act (WIA), Employment and Training Administration, Financial Reporting Requirements for National Farmworker Jobs Program.

OMB Number: 1205-0NEW.

Agency Numbers: ETA 9092.

Frequency: Quarterly.

Affected Public: State agencies; private, non-profit corporations; and consortia of any and/or all of the above.

Reporting Burden: See the following Reporting Burden Table for NFJP grantees to report requested WIA financial data electronically on form at ETA 9092.

DOL-ETA Reporting Burden for WIA Title I—NFJP Grantees
Requirements | PY 1999 | PY 2000 | PY 2001 | PY 2002
Number of Reports Per Entity Per Quarter | 3 | 3 | 3 | 3
Total Number of Reports Per Entity Per Year | 12 | 12 | 12 | 12
Number of Hours Required Per Report | 1 | 1 | 1 | 1
Total Number of Hours Required for Reporting Per Entity Per Year | 12 | 12 | 12 | 12
Number of Entities Reporting | 53 | 53 | 53 | 53
Total Number of Hours Required for Reporting Burden Per Year | 636 | 636 | 636 | 636
Total Burden Cost @ $25.00 per hour * | $15,900 | $15,900 | $15,900 | $15,900
* $25.00 per hour is based on a GS 12 Step 1 salary.

Note: Number of reports required per entity per quarter/per year is impacted by the 3 year life of each year of appropriated funds, i.e., PY 1997 and 1998 funds are available for expenditure in PY 1999, thus 3 reports reflect 3 available funding years.

Comments submitted in response to this comment request will be summarized and/or included in the request for Office of Management and Budget approval of the information collection request; they will also become a matter of public record.

Dated: December 21, 2000.
Bryan T. Keilty,
Director, Office of Financial and Administrative Management.

[FR Doc. 00-33074 Filed 12-27-00; 8:45 am]

BILLING CODE 4510-30-M